DEPARTMENT OF COMMERCE

Bureau of Industry and Security

15 CFR Part 744

[Docket No. 100804325-0351-01]

RIN 0694-AE97

Addition of Certain Persons on the Entity List: Addition of Persons Acting Contrary to the National Security or Foreign Policy Interests of the United States

AGENCY: Bureau of Industry and Security, Commerce.

ACTION: Final rule.

SUMMARY: This rule amends the Export Administration Regulations (EAR) by adding fifteen persons to the Entity List (Supplement No. 4 to Part 744) on the basis of section 744.11 of the EAR. The persons who are added to the Entity List have been determined by the U.S. Government to be acting contrary to the national security or foreign policy interests of the United States. These fifteen persons will be listed under the following four destinations on the Entity List: China, Hong Kong, Iran and Singapore.

The Entity List provides notice to the public that certain exports, reexports, and transfers (in-country) to parties identified on the Entity List require a license from the Bureau of Industry and Security (BIS) and that availability of license exceptions in such transactions is limited.

DATES: Effective Date: This rule is effective October 31, 2011. Although there is no formal comment period, public comments on this regulation are welcome on a continuing basis.

FOR FURTHER INFORMATION CONTACT: Karen Nies-Vogel, Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List provides notice to the public that certain exports, reexports, and transfers (in-country) to parties identified on the Entity List require a license from the Bureau of Industry and Security (BIS), and that availability of license exceptions in such transactions is limited. Persons are placed on the Entity List on the basis of criteria set forth in certain sections of part 744 (Control Policy: End-User and End-Use Based) of the EAR.

The End-User Review Committee (ERC), composed of representatives of the Departments of Commerce (Chair), State, Defense, Energy and, where appropriate, the Treasury, makes all decisions regarding additions to, removals from or changes to the Entity List. The ERC makes all decisions to add an entry to the Entity List by majority vote, and all decisions to remove or modify an entry by unanimous vote.

ERG Entity List Decisions

Additions to the Entity List

The ERC made a determination to add fifteen persons under twenty-five entries to the Entity List on the basis of section 744.11 (License Requirements that Apply to Entities Acting Contrary to the National Security or Foreign Policy Interests of the United States) of the EAR. The twenty-five entries added to the Entity List consist of five new entries in China, seven new entries in Hong Kong, three new entries in Iran, and ten new entries in Singapore. Ten of the entries are for persons with addresses in more than one of the countries (Iran, China, Hong Kong, and Singapore) at issue.

The ERC reviewed the criteria for revising the Entity List (section 744.11(b) of the EAR) in making the determination to add these persons to the Entity List. These criteria establish how to add to the Entity List those entities that, based on specific and articulable facts there is reasonable cause to believe, have been involved, are involved, or pose a significant risk of being or becoming involved in activities that are contrary to the national security or foreign policy interests of the United States, and those acting on behalf of such entities. (section 744.11 of the EAR). Paragraphs (b)(1)-(b)(5) of section 744.11 of the EAR (detailed below) include an illustrative list of activities that could be contrary to the national security or foreign policy interests of the United States. The persons being added to the Entity List under this rule have been determined by the ERC to be involved in activities that could be contrary to the national security or foreign policy interests of the United States.

Examples of the specific activities these persons were involved in that are contrary to the national security or foreign policy interests of the United States pursuant to section 744.11 are, as follows: Eight of the fifteen persons are being added based on evidence that they have engaged in actions that could enhance the military capability of Iran, a country designated by the U.S. Secretary of State as having repeatedly provided support for acts of international terrorism, and of militant insurgents operating in Iraq against the U.S. military. These persons are also added because their overall conduct poses a risk of ongoing EAR violations. These persons are as follows: Corezing International, Hia Soo Gan Benson, Hossein Ahmad Larijani, Lim Kow Seng, Lim Yong Nam, NEL Electronics Pte Ltd, Paya Electronic Complex, and Wong Yuh Lan. These parties participate in a complex and layered network that has engaged in complicated and long-term schemes to divert U.S.-origin items through deceptive actions, including shifting/circuitous routes and false or omitted information on shipping documentation, and to conceal these deceptive activities. The parties, while not all under the same ownership and management, are interrelated and work toward the same objective: Obtaining items that are subject to the Export Administration Regulations (EAR) for shipment to Iran and/or to China without the required Department of Commerce licenses, and obtaining items subject to the International Traffic in Arms Regulations (ITAR), which require licenses to all foreign destinations, for shipment without license. Among other activities, this procurement network arranged for the transhipment of EAR-controlled radio frequency modules from the United States through Singapore to Iran, for use in Improvised Explosive Devices (IED) found in Iraq. The procurement network also obtained ITAR-controlled antennas, designed for use in military radars and aircraft, and exported them to Singapore and Hong Kong. Additionally, the procurement network transhipped a range of U.S.-origin goods, including acrylic polymers and fiberglass tape, through Hong Kong to Iran. In the case of many of the eight individuals, they engaged in the described activities despite information indicating that they had knowledge of U.S. export control laws and regulations.

The remaining seven persons (Action Global, Amaze International, Luo Jie, OEM Hub Co Ltd., Parto System Tehran, Surftech Electronics, and Zhou Zhenyong) are being added based on evidence that they have engaged in actions facilitating the activities of the procurement network, as described in the paragraph above. Specific examples of each of the eight persons' activities are described in the paragraphs below.

Action Global, Amaze International and OEM Hub Co., Ltd., all Hong Kong entities, are being added based on specific information indicating that they serve as front companies for other entities named in this rule, including Corezing International, and therefore pose an imminent risk of violating the EAR. Action Global is also being added on the basis of information indicating that it was involved with the diversion of U.S.- origin items from Hong Kong to Iran.

Luo Jie, a Chinese national and a director of Corezing International, Action Global and Amaze International, is being added on the basis of information indicating that she was specifically involved in the procurement and attempted procurement of U.S. power amplifiers intended for end-users in China, as well as in the diversion of various U.S.-origin goods through Hong Kong to Iran. Luo's involvement in these activities is in contrast to her demonstrated knowledge of U.S. export control laws and regulations.

Parto Systems Tehran, an Iranian freight forwarder, is being added based on information indicating that it was involved in the diversion of U.S.-origin items to Iran. BIS also has information indicating that Parto Systems Tehran is closely associated with Hossein Ahmad Larijani.

Surftech Electronics, a Singapore corporation established by Hia Soo Gan Benson, is co-located with Corezing International. BIS has information indicating that Surftech Electronics sought to purchase certain U.S.-origin items for shipment to Iran, a country designated by the U.S. Secretary of State as having repeatedly provided support for acts of international terrorism. The illustrative criteria included in section 744.11 under paragraph (b)(2) for adding persons to the Entity List includes actions that could enhance the military capability of, or the ability to support terrorism of governments that have been designated by the Secretary of State as having repeatedly provided support for acts of international terrorism.

Zhou Zhenyong, who is believed to be a Chinese national or from Hong Kong and a director of Corezing International, is being added based on information that he was specifically involved in the procurement and attempted procurement of U.S.-origin items, including U.S.-origin munitions items destined for end-users in China and/or Iran, and contrary to the national security or foreign policy interests of the United States. BIS's information indicates that Zhou engaged in these activities despite knowledge of U.S. export control laws and regulations.

This rule implements the decision of the ERC to add fifteen persons under twenty-five entries to the Entity List on the basis of section 744.11 of the EAR. For all of the fifteen persons under twenty-five entries added to the Entity List, the ERC specified a license requirement for all items subject to the EAR and established a license application review policy of a presumption of denial. A BIS license is required to export, reexport or transfer (in-country) any item subject to the EAR to any of the persons listed above and described below in further detail, including any transaction in which any of the listed persons will act as purchaser, intermediate consignee, ultimate consignee, or end-user of the items. This listing of these persons also prohibits the use of license exceptions (see part 740 of the EAR) for exports, reexports and transfers (in-country) of items subject to the EAR involving such persons.

Specifically, this rule adds the following fifteen persons under twenty-five entries to the Entity List:

China

(1) Corezing International, (a.k.a. CoreZing Electronics, Corezing International Group Company, Corezing International Pte Ltd, Corezing Technology Pte Ltd and Core Zing), Room 1007, Block C2, Galaxy Century Bldg., CaiTian Rd., FuTian District, Shenzhen, China; and Room 1702, Tower B, Honesty Building, Humen, Dongguan, Guangdong, China (See alternate addresses under Hong Kong and Singapore);

(2) Lim Yong Nam, (a.k.a. Lin Rongnan, Steven Lim and Yong Nam Lim), YuJingHuaCheng Huaqiang South Road Futian, Shenzhen, China 518033; and Room 2613, NanGuangJieJia Building ShenNan Road, FuTian, Shenzhen, China 518033 (See alternate addresses under Singapore);

(3) Luo Jie, (a.k.a. Cherry, Ivy Luo and Jie Luo), Room 1007, Block C2, Galaxy Century Bldg., CaiTian Rd., FuTian District, Shenzhen, China; and Room 1702, Tower B, Honesty Building, Humen, Dongguan, Guangdong, China (See alternate addresses under Hong Kong);

(4) NEL Electronics, (a.k.a. NEL Electronics Pte Ltd), 14K Block 2 YuJingHuaCheng Huaqiang South Road FuTian, Shenzhen, China 518033; and Room 2613, NanGuangJieJia Building ShenNan Road, FuTian, Shenzhen, China 518033 (See alternate addresses under Singapore); and

(5) Zhou Zhenyong, (a.k.a. Benny Zhou and Zhenyong Zhou), Room 1007, Block C2, Galaxy Century Bldg., CaiTian Rd., FuTian District, Shenzhen, China; and Room 1702, Tower B, Honesty Building, Humen, Dongguan, Guangdong, China (See alternate addresses under Hong Kong).

Hong Kong

(1) Action Global, (a.k.a. Action Global Co., Limited), C/O Win Sino Flat 12, 9/F, PO Hong Centre, 2 Wang Tung Street, Kowloon Bay, KLN, Hong Kong; and Flat/RM 1510A, 15/F Ho King COMM Ctr, 2-16 Fa Yuen Street, Mongkok KL, Hong Kong (See alternate address under Singapore);

(2) Amaze International, Flat/Rm D, 11/F 8 Hart Avenue 8-10 Hart Avenue, Tsim Sha Tsui KL, Hong Kong (See alternate address under Singapore);

(3) Corezing International, (a.k.a. CoreZing Electronics, Corezing International Group Company, Corezing International Pte Ltd, Corezing Technology Pte Ltd and Core Zing), G/F, No. 89, Fuyan Street, Kwun Tong, Hong Kong; and Flat 12, 9F Po Hong Kong, 2 Wang Tung Street, Kowloon Bay, Hong Kong; and Flat/RM B 8/F, Chong Ming Bldg., 72 Cheung Sha Wan Road KL, Hong Kong; and Flat/RM 2309, 23/F, Ho King COMM Center, 2-16 Fa Yuen Street, Mongkok KLN, Hong Kong (See alternate addresses under China and Singapore);

(4) Lim Kow Seng, (a.k.a. Alvin Stanley, Eric Lim, James Wong, Mike Knight and Seng Lim Kow), Flat/Rm 3208 32/F, Central Plaza, 18 Harbour Road, Wanchai, Hong Kong; and Flat/RM 2309, 23/F, Ho King COMM Center, 2-16 Fa Yuen Street, Mongkok KLN, Hong Kong (See alternate addresses under Singapore);

(5) Luo Jie, (a.k.a. Cherry, Ivy Luo and Jie Luo), Flat/RM 1510A, 15/F Ho King COMM Ctr, 2-16 Fa Yuen Street, Mongkok KL, Hong Kong; and C/O Win Sino Flat 12, 9/F, PO Hong Centre, 2 Wang Tung Street, Kowloon Bay, KLN, Hong Kong; and Flat/Rm D, 11/F 8 Hart Avenue, 8-10 Hart Avenue, Tsim Sha Tsui KL, Hong Kong; and G/F, No. 89, Fuyan Street, Kwun Tong, Hong Kong; and Flat 12, 9F Po Hong Kong, 2 Wang Tung Street, Kowloon Bay, Hong Kong; and Flat/RM B 8/F, Chong Ming Bldg., 72 Cheung Sha Wan Road, KL, Hong Kong; and Flat/Rm 3208 32/F Central Plaza, 18 Harbour Road, Wanchai, Hong Kong (See alternate addresses under China);

(6) OEM Hub Co Ltd, Rm 3208 32/F Central Plaza, 18 Harbour Road, Wanchai, Hong Kong; and Flat/RM 2309, 23/F, Ho King COMM Center, 2-16 Fa Yuen Street, Mongkok KLN, Hong Kong; and

(7) Zhou Zhenyong, (a.k.a. Benny Zhou and Zhenyong Zhou), G/F, No. 89, Fuyan Street, Kwun Tong, Hong Kong; and Flat 12, 9F Po Hong Kong 2 Wang Tung Street, Kowloon Bay, Hong Kong; and Flat/RM B 8/F, Chong Ming Bldg., 72 Cheung Sha Wan Road, KL, Hong Kong; and Flat/RM 2309, 23/F, Ho King COMM Center, 2-16 Fa Yuen Street, Mongkok KLN, Hong Kong (See alternate addresses under China).

Iran

(1) Hossein Ahmad Larijani, No. 3 Mirza Kochak Ave., Jomhori Street, Tehran, Iran; and No. 5 Mirzakuchanhan Street, Jomhori Ave., Tehran, Iran; and No. 5 Mirza Kochak Ave., Jomhori Street, Tehran, Iran; and No. 5, Near to Flower Shop Mirza KoochakKhan Jangali St, 30-Tir Junction, Jomhori St, Tehran, Iran; and Unit 6, No. 37, Goharshad Alley After 30 Tir Jomhori Street, Tehran, Iran; and Forghani Passage, Before 30 Tir, After Havez, Jomhori Ave., Tehran, Iran (See alternate addresses under Singapore);

(2) Parto System Tehran, (a.k.a. Rayan Parto System Tehran and Rayane Parto System Tehran), Unit 7, Floor 4 No. 51 around Golestan Alley End of Shahaneghi Ave., Sheikh Bahaee Str., Molasadra, Tehran, Iran; and No. 83 Around of Shanr Tash Ave. After Cross of ABAS ABAD North Sohrevadi Str., Tehran, Iran; and

(3) Paya Electronics Complex, (a.k.a. Paya Complex), No. 3 Mirza Kochak Ave. Jomhori Street, Tehran, Iran; and No. 5 Mirzakuchanhan Street Jomhori Ave., Tehran, Iran; and No. 5 Mirza Kochak Ave. Jomhori Street, Tehran, Iran; and No. 5, Near to Flower Shop Mirza Koochak-Khan Jangali St, 30-Tir Junction, Jomhori St., Tehran, Iran; and Unit 6, No. 37 Goharshad Alley After 30 Tir Jomhori Street, Tehran, Iran; and Forghani Passage, Before 30 Tir, After Havez, Jomhori Ave., Tehran, Iran.

Singapore

(1) Action Global, (a.k.a. Action Global Co., Limited), 520 Sims Avenue, #02-04, Singapore 387580 (See alternate addresses under Hong Kong);

(2) Amaze International, Block 1057 Eunos Avenue 3, #02-85, Singapore 409848 (See alternate address under Hong Kong);

(3) Corezing International, (a.k.a. CoreZing Electronics, Corezing International Group Company, Corezing International Pte Ltd, Corezing Technology Pte Ltd and Core Zing), 2021 Bukit Batok Street 23, #02-212, Singapore 659626; and 111 North Bridge Road, #27-01 Peninsula Plaza, Singapore 179098; and 50 East Coast Road, #2-70 Roxy Square, Singapore 428769; and Block 1057 Eunos Avenue 3, #02-85, Singapore 409848 (See alternate addresses under China, and Hong Kong);

(4) Hia Soo Gan Benson, (a.k.a. Benson, Soo Gan Benson Hia and Thomas Yan), Blk 8 Empress Road, #07-05, Singapore 260008; and 2021 Bukit Batok Street 23, #02-212, Singapore 659626; and 111 North Bridge Road, #27-01 Peninsula Plaza, Singapore 179098; and 50 East Coast Road, #2-70 Roxy Square, Singapore 428769; and Block 1057 Eunos Avenue 3, #02-85, Singapore 409848;

(5) Hossein Ahmad Larijani, 24 Semei Street 1, #06-08, Singapore 529946; and 10 Jalan Besar, #11-08 Sim Lim Tower, Singapore 208787 (See alternate addresses under Iran);

(6) Lim Kow Seng, (a.k.a. Alvin Stanley, Eric Lim, James Wong, Mike Knight and Seng Lim Kow), Blk 751 Woodlands Circle, #10-592, Singapore 730751; and 520 Sims Avenue, #02-04, Singapore 387580; and 2021 Bukit Batok Street 23, #02-212, Singapore 659626; and 111 North Bridge Road, #27-01 Peninsula Plaza, Singapore 179098; and 50 East Coast Road, #2-70 Roxy Square, Singapore 428769; and Block 1057 Eunos Avenue 3, #02-85, Singapore 409848 (See alternate addresses under Hong Kong);

(7) Lim Yong Nam, (a.k.a. Lin Rongnan, Steven Lim and Yong Nam Lim),170 Bukit Batok, West Avenue 8, #13-369, Singapore 650170; and 158 Kallang Way, #02-505 Kallang Basin, Singapore 349245; and 158 Kallang Way #03-511, Singapore 349245; and Blk 1001 Tai Seng Ave. #01-2522, Singapore 534411 (See alternate addresses under China);

(8) NEL Electronics, (a.k.a. NEL Electronics Pte Ltd), 158 Kallang Way, #02-505 Kallang Basin, Singapore 349245; and 158 Kallang Way, #03-511, Singapore 349245; and Blk 1001 Tai Seng Ave. #01-2522, Singapore 534411 (See alternate addresses under China);

(9) Surftech Electronics, Block 1057 Eunos Avenue 3, #02-85 Singapore 409848; and

(10) Wong Yuh Lan, (a.k.a. Huang Yulan, Jancy Wong and Yuh Lan Wong), Blk 109B Edgedale Plains, #14-115, Singapore 822109; and 10 Jalan Besar, #11-08 Sim Lim Tower, Singapore 208787.

Savings Clause

Shipments of items removed from eligibility for a License Exception or export or reexport without a license (NLR) as a result of this regulatory action that were on dock for loading, on lighter, laden aboard an exporting or reexporting carrier, or en route aboard a carrier to a port of export or reexport, on October 31, 2011, pursuant to actual orders for export or reexport to a foreign destination, may proceed to that destination under the previous eligibility for a License Exception or export or reexport without a license (NLR) so long as they are exported or reexported before November 15, 2011. Any such items not actually exported or reexported before midnight, on November 15, 2011, require a license in accordance with this rule.

Although the Export Administration Act expired on August 20, 2001, the President, through Executive Order 13222 of August 17, 2001, 3 CFR, 2001 Comp., p. 783 (2002), as extended by the Notice of August 12, 2011, 76 FR 50661 (August 16, 2011), has continued the Export Administration Regulations in effect under the International Emergency Economic Powers Act.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public participation, and a delay in effective date, are inapplicable because this regulation involves a military or foreign affairs function of the United States. (see 5 U.S.C. 553(a)(1)). BIS implements this rule to prevent items from being exported, reexported or transferred (in country) to the persons being added to the Entity List. If this rule were delayed to allow for notice and comment and a delay in effective date, then entities being added to the Entity List by this action would continue to be able to receive items without a license and to conduct activities contrary to the national security or foreign policy interests of the United States. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 12, 2011, 76 FR 50661 (August 16, 2011); Notice of November 4, 2010, 75 FR 68673 (November 8, 2010): Notice of January 13, 2011, 76 FR 3009, January 18, 2011.

2. Supplement No. 4 to part 744 is amended:

a. By adding under China, People's Republic of, in alphabetical order, five Chinese entities;

b. By adding under Hong Kong, in alphabetical order, seven Hong Kong entities;

c. By adding under Iran, in alphabetical order, three Iranian entities; and

d. By adding under Singapore, in alphabetical order, ten Singaporean entities.

The additions read as follows:

Supplement No. 4 to Part 744—Entity List
Country | Entity | License requirement | License review policy | Federal Register citation
* * * * * * *
CHINA, PEOPLE'S REPUBLIC OF
* * * * * * *
| Corezing International, (a.k.a., CoreZing Electronics, Corezing International Group Company, Corezing International Pte Ltd, Corezing Technology Pte Ltd and Core Zing), Room 1007, Block C2, Galaxy Century Bldg., CaiTian Rd., FuTian District, Shenzhen, China; and Room 1702, Tower B, Honesty Building, Humen, Dongguan, Guangdong, China (See alternate addresses under Hong Kong and Singapore) | For all items subject to the EAR. (See § 744.11 of the EAR) | Presumption of denial | 76 FR [INSERT FR PAGE NUMBER] 10/31/2011.
* * * * * * *
| Lim Yong Nam, (a.k.a. Lin Rongnan, Steven Lim and Yong Nam Lim), YuJingHuaCheng Huaqiang South Road Futian, Shenzhen, China 518033; and Room 2613, NanGuangJieJia Building ShenNan Road, FuTian, Shenzhen, China 518033 (See alternate addresses under Singapore) | For all items subject to the EAR. (See § 744.11 of the EAR) | Presumption of denial | 76 FR [INSERT FR PAGE NUMBER] 10/31/2011.
| Luo Jie, (a.k.a. Cherry, Ivy Luo and Jie Luo), Room 1007, Block C2, Galaxy Century Bldg., CaiTian Rd., FuTian District, Shenzhen, China; and Room 1702, Tower B, Honesty Building, Humen, Dongguan, Guangdong, China (See alternate addresses under Hong Kong) | For all items subject to the EAR. (See § 744.11 of the EAR) | Presumption of denial | 76 FR [INSERT FR PAGE NUMBER] 10/31/2011.
| NEL Electronics, (a.k.a., NEL Electronics Pte Ltd), 14K Block 2 YuJingHuaCheng Huaqiang South Road FuTian, Shenzhen, China 518033; and Room 2613, NanGuangJieJia Building ShenNan Road, FuTian, Shenzhen, China 518033 (See alternate address under Singapore) | For all items subject to the EAR. (See § 744.11 of the EAR) | Presumption of denial | 76 FR [INSERT FR PAGE NUMBER] 10/31/2011.
* * * * * * *
| Zhou Zhenyong, (a.k.a., Benny Zhou and Zhenyong Zhou), Room 1007, Block C2, Galaxy Century Bldg., CaiTian Rd., FuTian District, Shenzhen, China; and Room 1702, Tower B, Honesty Building, Humen, Dongguan, Guangdong, China (See alternate addresses under Hong Kong) | For all items subject to the EAR. (See § 744.11 of the EAR) | Presumption of denial | 76 FR [INSERT FR PAGE NUMBER] 10/31/2011.
* * * * * * *
HONG KONG
* * * * * * *
| Action Global, (a.k.a., Action Global Co., Limited), C/O Win Sino Flat 12, 9/F, PO Hong Centre, 2 Wang Tung Street, Kowloon Bay, KLN, Hong Kong; and Flat/RM 1510A, 15/F Ho King COMM Ctr, 2-16 Fa Yuen Street, Mongkok KL, Hong Kong (See alternate address under Singapore) | For all items subject to the EAR. (See § 744.11 of the EAR) | Presumption of denial | 76 FR [INSERT FR PAGE NUMBER] 10/31/2011.
| Amaze International, Flat/Rm D, 11/F 8 Hart Avenue 8-10 Hart Avenue, Tsim Sha Tsui KL, Hong Kong (See alternate address under Singapore) | For all items subject to the EAR. (See § 744.11 of the EAR) | Presumption of denial | 76 FR [INSERT FR PAGE NUMBER] 10/31/2011.
* * * * * * *
| Corezing International, (a.k.a., CoreZing Electronics, Corezing International Group Company, Corezing International Pte Ltd, Corezing Technology Pte Ltd and Core Zing), G/F, No. 89, Fuyan Street, Kwun Tong, Hong Kong; and Flat 12, 9F Po Hong Kong, 2 Wang Tung Street, Kowloon Bay, Hong Kong; and Flat/RM B 8/F, Chong Ming Bldg., 72 Cheung Sha Wan Road KL, Hong Kong; and FlatiRM 2309, 23/F, Ho King COMM Center, 2-16 Fa Yuen Street, Mongkok KLN, Hong Kong (See alternate addresses under China and Singapore) | For all items subject to the EAR. (See § 744.11 of the EAR) | Presumption of denial | 76 FR [INSERT FR PAGE NUMBER] 10/31/2011.
* * * * * * *
| Lim Kow Seng, (a.k.a., Alvin Stanley, Eric Lim, James Wong, Mike Knight and Seng Lim Kow), Flat/Rm 3208 32/F, Central Plaza, 18 Harbour Road, Wanchai, Hong Kong; and Flat/RM 2309, 23/F, Ho King COMM Center, 2-16 Fa Yuen Street, Mongkok KLN, Hong Kong (See alternate addresses under Singapore) | For all items subject to the EAR. (See § 744.11 of the EAR) | Presumption of denial | 76 FR [INSERT FR PAGE NUMBER] 10/31/2011.
| Luo Jie, (a.k.a., Cherry, Ivy Luo and Jie Luo), Flat/RM 1510A, 15/F Ho King COMM Ctr, 2-16 Fa Yuen Street, Mongkok KL, Hong Kong; and C/O Win Sino Flat 12, 9/F, PO Hong Centre, 2 Wang Tung Street, Kowloon Bay, KLN, Hong Kong; and Flat/Rm D, 11/F 8 Hart Avenue, 8-10 Hart Avenue, Tsim Sha Tsui KL, Hong Kong; and G/F, No. 89, Fuyan Street, Kwun Tong, Hong Kong; and Flat 12, 9F Po Hong Kong, 2 Wang Tung Street, Kowloon Bay, Hong Kong; and Flat/RM B 8/F, Chong Ming Bldg., 72 Cheung Sha Wan Road, KL, Hong Kong; and Flat/Rm 3208 32/F Central Plaza, 18 Harbour Road, Wanchai, Hong Kong (See alternate addresses under China) | For all items subject to the EAR. (See § 744.11 of the EAR) | Presumption of denial | 76 FR [INSERT FR PAGE NUMBER] 10/31/2011.
| OEM Hub Co Ltd, Rm 3208 32/F Central Plaza, 18 Harbour Road, Wanchai, Hong Kong; and Flat/RM 2309, 23/F, Ho King COMM Center, 2-16 Fa Yuen Street, Mongkok KLN, Hong Kong | For all items subject to the EAR. (See § 744.11 of the EAR) | Presumption of denial | 76 FR [INSERT FR PAGE NUMBER] 10/31/2011.
* * * * * * *
| Zhou Zhenyong, (a.k.a., Benny Zhou and Zhenyong Zhou), G/F, No. 89, Fuyan Street, Kwun Tong, Hong Kong; and Flat 12, 9F Po Hong Kong 2 Wang Tung Street, Kowloon Bay, Hong Kong; and Flat/RM B 8/F, Chong Ming Bldg., 72 Cheung Sha Wan Road, KL, Hong Kong; and Flat/RM 2309, 23/F, Ho King COMM Center, 2-16 Fa Yuen Street, Mongkok KLN, Hong Kong (See alternate addresses under China) | For all items subject to the EAR. (See § 744.11 of the EAR) | Presumption of denial | 76 FR [INSERT FR PAGE NUMBER] 10/31/2011.
* * * * * * *
IRAN
* * * * * * *
| Hossein Ahmad Larijani, No 3 Mirza Kochak Ave., Jomhori Street, Tehran, Iran; and No. 5 Mirzakuchanhan Street, Jomhori Ave., Tehran, Iran; and No. 5 Mirza Kochak Ave., Jomhori Street, Tehran, Iran; and No. 5, Near to Flower Shop Mirza Koochak- Khan Jangali St, 30-Tir Junction, Jomhori St, Tehran, Iran; and Unit 6, No. 37, Goharshad Alley After 30 Tir Jomhori Street, Tehran, Iran; and Forghani Passage, Before 30 Tir, After Havez, Jomhori Ave., Tehran, Iran (See alternate addresses under Singapore) | For all items subject to the EAR. (See § 744.11 of the EAR) | Presumption of denial | 76 FR [INSERT FR PAGE NUMBER] 10/31/2011.
* * * * * * *
| Parto System Tehran, (a.k.a., Rayan Parto System Tehran and Rayane Parto System Tehran), Unit 7, Floor 4 No. 51 around Golestan Alley End of Shahaneghi Ave., Sheikh Bahaee Str., Molasadra, Tehran, Iran; and No. 83 Around of Shanr Tash Ave. After Cross of ABAS ABAD North Sohrevadi Str., Tehran, Iran | For all items subject to the EAR. (See § 744.11 of the EAR) | Presumption of denial | 76 FR [INSERT FR PAGE NUMBER] 10/31/2011.
| Paya Electronics Complex, (a.k.a., Paya Complex), No 3 Mirza Kochak Ave. Jomhori Street, Tehran, Iran; and No. 5 Mirzakuchanhan Street Jomhori Ave., Tehran, Iran; and No. 5 Mirza Kochak Ave. Jomhori Street, Tehran, Iran; and No. 5, Near to Flower Shop Mirza Koochak-Khan Jangali St, 30-Tir Junction, Jomhori St., Tehran, Iran; and Unit 6, No. 37 Goharshad Alley After 30 Tir Jomhori Street, Tehran, Iran; and Forghani Passage, Before 30 Tir, After Havez, Jomhori Ave., Tehran, Iran | For all items subject to the EAR. (See § 744.11 of the EAR) | Presumption of denial | 76 FR [INSERT FR PAGE NUMBER] 10/31/2011.
* * * * * * *
SINGAPORE
| Action Global, (a.k.a., Action Global Co.), Limited, 520 Sims Avenue, #02-04, Singapore 387580 (See alternate addresses under Hong Kong) | For all items subject to the EAR. (See § 744.11 of the EAR) | Presumption of denial | 76 FR [INSERT FR PAGE NUMBER] 10/31/2011.
| Amaze International, Block 1057 Eunos Avenue 3, #02-85, Singapore 409848 (See alternate address under Hong Kong) | For all items subject to the EAR. (See § 744.11 of the EAR) | Presumption of denial | 76 FR [INSERT FR PAGE NUMBER] 10/31/2011.
* * * * * * *
| Corezing International, (a.k.a., CoreZing Electronics, Corezing International Group Company, Corezing International Pte Ltd, Corezing Technology Pte Ltd and Core Zing), 2021 Bukit Batok Street 23, #02-212, Singapore 659626; and 111 North Bridge Road, #27-01 Peninsula Plaza, Singapore 179098; and 50 East Coast Road, #2-70 Roxy Square, Singapore 428769; and Block 1057 Eunos Avenue 3, #2-85, Singapore 409848 (See alternate addresses under China, and Hong Kong) | For all items subject to the EAR. (See § 744.11 of the EAR) | Presumption of denial | 76 FR [INSERT FR PAGE NUMBER] 10/31/2011.
* * * * * * *
| Hia Soo Gan Benson, (a.k.a., Benson, Soo Gan Benson Hia and Thomas Yan), Blk 8 Empress Road, #0705, Singapore 260008; and 2021 Bukit Batok Street 23, #02-212, Singapore 659626; and 111 North Bridge Road, #27-01 Peninsula Plaza, Singapore 179098; and 50 East Coast Road, #2-70 Roxy Square, Singapore 428769; and Block 1057 Eunos Avenue 3, #02-85, Singapore 409848 | For all items subject to the EAR. (See § 744.11 of the EAR) | Presumption of denial | 76 FR [INSERT FR PAGE NUMBER] 10/31/2011.
| Hossein Ahmad Larijani, 24 Semei Street 1, #06-08, Singapore 52996; and 10 Jalan Besar, #11-08 Sim Lim Tower, Singapore 208787 (See alternate addresses under Iran) | For all items subject to the EAR. (See § 744.11 of the EAR) | Presumption of denial | 76 FR [INSERT FR PAGE NUMBER] 10/31/2011.
| Lim Kow Seng, (a.k.a., Alvin Stanley, Eric Lim, James Wong, Mike Knight and Seng Lim Kow), Blk 751 Woodlands Circle, #10-592, Singapore 730751; and 520 Sims Avenue, #02-04, Singapore 387580; and 2021 Bukit Batok Street 23, #02-212 Singapore 659626; and 111 North Bridge Road, #27-01 Peninsula Plaza, Singapore 179098; and 50 East Coast Road, #2-70 Roxy Square, Singapore 428769; and Block 1057 Eunos Avenue 3, #02-85, Singapore 409848 (See alternate addresses under Hong Kong) | For all items subject to the EAR. (See § 744.11 of the EAR) | Presumption of denial | 76 FR [INSERT FR PAGE NUMBER] 10/31/2011.
| Lim Yong Nam, (a.k.a., Lin Rongnan, Steven Lim and Yong Nam Lim),170 Bukit Batok, West Avenue 8, #13-369, Singapore 650170; and 158 Kallang Way, #02-505 Kallang Basin, Singapore 349245; and 158 Kallang Way #03-511, Singapore 349245; and Blk 1001 Tai Seng Ave. #01-2522, Singapore 534411 (See alternate addresses under China) | For all items subject to the EAR. (See § 744.11 of the EAR) | Presumption of denial | 76 FR [INSERT FR PAGE NUMBER] 10/31/2011.
* * * * * * *
| NEL Electronics, (a.k.a., NEL Electronics Pte Ltd),158 Kallang Way, #02-505 Kallang Basin, Singapore 349245; and 158 Kallang Way, #03-511, Singapore 349245; and Blk 1001 Tai Seng Ave. #01-2522, Singapore 534411(See alternate addresses under China) | For all items subject to the EAR. (See § 744.11 of the EAR) | Presumption of denial | 76 FR [INSERT FR PAGE NUMBER] 10/31/2011.
* * * * * * *
| Surftech Electronics, Block 1057 Eunos Avenue 3, #02-85 Singapore 409848 | For all items subject to the EAR. (See § 744.11 of the EAR) | Presumption of denial | 76 FR [INSERT FR PAGE NUMBER] 10/31/2011.
* * * * * * *
| Wong Yuh Lan, (a.k.a., Huang Yulan, Jancy Wong and Yuh Lan Wong), Blk 109B Edgedale Plains, #14115, Singapore 822109; and 10 Jalan Besar, #11-08 Sim Lim Tower, Singapore 208787 | For all items subject to the EAR. (See § 744.11 of the EAR) | Presumption of denial | 76 FR [INSERT FR PAGE NUMBER] 10/31/2011.
* * * * * * *

Dated: October 25, 2011.
Kevin J. Wolf,
Assistant Secretary for Export Administration.

[FR Doc. 2011-28057 Filed 10-28-11; 8:45 am]

BILLING CODE 3510-33-P